DEPARTMENT OF ENERGY

Federal Energy Regulatory Commission

Combined Notice of Filings #2

October 14, 2005.

Take notice that the Commission received the following electric rate filings.

Docket Numbers: ER00-2677-000; ER00-2684-000; ER05-1395-001.

Applicants: American Ref-Fuel Company of Delaware Valley, L.P.

Covanta Delaware Valley, L.P.

Description: Covanta Delaware Valley, LP submits corrections to its August 26, 2005 filing by updating Original Sheets 1, 5, and 6 to its FERC Electric Tariff, Original Volume No. 3 as a result of a name change.

Filed Date: October 7, 2005.

Accession Number: 20051012-0003.

Comment Date: 5 p.m. Eastern Time on Friday, October 28, 2005.

Docket Numbers: ER01-1302-000; ER05-1398-001.

Applicants: American Ref-Fuel Company of Niagara, L.P.

Covanta Niagara, L.P.

Description: Covanta Niagara, LP submits revised Original Sheets 1 and 5 to FERC Electric Tariff, Original Volume No.1 as a result of a name change.

Filed Date: October 7, 2005.

Accession Number: 20051012-0004.

Comment Date: 5 p.m. Eastern Time on Friday, October 28, 2005.

Docket Numbers: ER01-1710-008.

Applicants: Mill Run Windpower, LLC.

Description: Mill Run Windpower LLC submits its compliance filing in response to FERC's September 21, 2005 Letter Order.

Filed Date: October 7, 2005.

Accession Number: 20051012-0008.

Comment Date: 5 p.m. Eastern Time on Friday, October 28, 2005.

Docket Numbers: ER01-2139-009.

Applicants: Somerset Windpower, LLC.

Description: Somerset Windpower, LLC submits its compliance filing in response to FERC's September 21, 2005 Letter Order.

Filed Date: October 7, 2005.

Accession Number: 20051012-0007.

Comment Date: 5 p.m. Eastern Time on Friday, October 28, 2005.

Docket Numbers: ER04-127-004.

Applicants: FPL Energy Green Power Wind, LLC.

Description: FPL Energy Green Power Wind LLC submits changes to its Market-based Rate Tariff to include the Change of Status language promulgated in Order 652.

Filed Date: October 7, 2005.

Accession Number: 20051012-0009.

Comment Date: 5 p.m. Eastern Time on Friday, October 28, 2005.

Docket Numbers: ER05-1266-002; ER99-2602-004; ER96-1947-017.

Applicants: LS Power Development, LLC.

Description: LS Power Development, LLC on behalf of Onetelaunee Power Operating Co, LLC informs FERC of a change in status with regards to the characteristics that FERC previously relied upon in granting the LSP Entities market based rate authority.

Filed Date: October 7, 2005.

Accession Number: 20051012-0006.

Comment Date: 5 p.m. Eastern Time on Friday, October 28, 2005.

Docket Numbers: ER06-15-000.

Applicants: Southwest Power Pool, Inc.

Description: Southwest Power Pool, Inc and Midwest ISO submit revisions to the Joint Operating Agreement & the Congestion Management Process, effective December 1, 2005.

Filed Date: October 6, 2005.

Accession Number: 20051011-0091.

Comment Date: 5 p.m. Eastern Time on Thursday, October 27, 2005.

Docket Numbers: ER06-17-000.

Applicants: New England Participating Transmission Owner.

Description: New England Participating Transmission Owners submits a proposal to modify the Regional Network Service rates set forth in the ISO New England, Inc. Open Access Transmission Tariff.

Filed Date: October 7, 2005.

Accession Number: 20051012-0001.

Comment Date: 5 p.m. Eastern Time on Friday, October 28, 2005.

Docket Numbers: ER06-18-000.

Applicants: Midwest Independent Transmission System Operator, Inc.

Description: Midwest Independent Transmission System Operator, Inc submits proposed revisions to the Open Access Transmission and Energy Markets Tariff re its Cost Allocation Policy, effective February 4, 2006.

Filed Date: Octoberr 7, 2005.

Accession Number: 20051012-0168.

Comment Date: 5 p.m. Eastern Time on Friday, October 28, 2005.

Docket Numbers: ER06-27-000; ER05-1083-001; ER04-691-063; EL04-104-060.

Applicants: Midwest Independent Transmission System Operator, Inc.

Description: Midwest ISO Transmission Owners submits revisions to Schedule 24 of the Midwest Independent Transmission System Operator, Inc., Open Access Transmission & Energy Markets Tariff pursuant to FERC's August 5, 2005 Order.

Filed Date: October 4, 2005.

Accession Number: 20051013-0016.

Comment Date: 5 p.m. Eastern Time on Tuesday, October 25, 2005.

Docket Numbers: ER99-3553-000; ER03-170-000; ER05-1396-001.

Applicants: American Ref-Fuel Company of Essex County

Convanta Essex Company.

Description: Covanta Essex Co submits the revised Original Sheets 1 and 6 to the tariff of its August 26, 2005 filing which have been modified as a result of name change.

Filed Date: October 7, 2005.

Accession Number: 20051012-0005.

Comment Date: 5 p.m. Eastern Time on Friday, October 28, 2005.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St. NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov. or call (866) 208-3676 (toll free). For TTY, call (202) 502-8659.

Magalie R. Salas,
Secretary.

[FR Doc. E5-5803 Filed 10-20-05; 8:45 am]

BILLING CODE 6717-01-P